DEPARTMENT OF ENERGY

Federal Energy Regulatory Commission

Notice of FERC Staff Attendance at the Florida Public Service Commission's Workshop Concerning the Proposed GridFlorida RTO

May 18, 2005.

The Federal Energy Regulatory Commission hereby gives notice that members of its staff may attend the workshop on May 23, 2005, to be held at 9:30 a.m. (EST) at the Florida Public Service Commission, Hearing Room 148, 2540 Shumard Oak Blvd., Tallahassee, FL 32399-0850. The workshop is being held for ICF Consulting Resources, LLC to present and discuss the results of its cost benefit study of the proposed GridFlorida Regional Transmission Organization (RTO).

The discussion may address matters at issue in Docket No. RT01-67-003.

The meeting is open to the public. For more information, contact Robert T. Machuga, Office of Markets, Tariffs and Rates, Federal Energy Regulatory Commission at (202) 502-6004 or robert.machuga@ferc.gov.

Magalie R. Salas,
Secretary.

[FR Doc. E5-2611 Filed 5-24-05; 8:45 am]

BILLING CODE 6717-01-P